FEDERAL COMMUNICATIONS COMMISSION

[Report No. 2616]

Petitions for Reconsideration and Clarification of Action in Rulemaking Proceedings

July 7, 2003.

Petitions for Reconsideration and Clarification have been filed in the Commission's Rulemaking proceedings listed in this Public Notice and published pursuant to 47 CFR 1.429(e). The full text of this document is available for viewing and copying in Room CY-A257, 445 12th Street, SW., Washington, DC or may be purchased from the Commission's copy contractor, Qualex International (202) 863-2893. Oppositions to these petitions must be filed by July 29, 2003. See Section 1.4(b)(1) of the Commission's rule (47 CFR 1.4(b)(1)). Replies to an opposition must be filed within 10 days after the time for filing oppositions have expired.

Subject: In the Matter of the Implementation of the Subscriber Carrier Selection Changes Provisions of the Telecommunications Act of 1996 (CC Docket No. 94-129);

Policies and Rules Concerning Unauthorized Changes of Consumers' Long Distance Carriers.

Number of Petitions Filed: 3.

Subject: Amendment of the FM Table of Allotments (Cheboygan, Rogers City, Bear Lake, Bellaire, Rapid River, Manistique, Ludington, Walhalla and Onaway, Michigan) (MM Docket No. 00-69, RM-9850, RM-9945, RM-9946).

Number of Petitions Filed: 1.

Subject: Amendment of the FM Table of Allotments (Quanah, Archer City, Converse, Flatonia, Georgetown, Ingram, Keller, Knox City, Lakeway, Lago Vista, Llano, McQueeney, Nolanville, San Antonia, Seymour, Waco and Wellington, Texas, and Ardmore, Durant, Elk City, Healdton, Lawton and Purcell, Oklahoma.) (MM Docket No. 00-148, RM-9939, RM-10198).

Number of Petitions Filed: 1.

Subject: Amendment of the Commission's Rules and Policies for Applications and Licensing of Low Power Operations in the Private Land Mobile Radio 450-470 MHz Band (WT Docket No. 01-146, RM-9966).

Number of Petitions Filed: 1.

Subject: Amendment of the FM Table of Allotments (Magnolia, Arkansas and Oil City, Louisiana) (MB Docket No. 02-199, RM-10514).

Number of Petitions Filed: 1.

Marlene H. Dortch,
Secretary.

[FR Doc. 03-17718 Filed 7-11-03; 8:45 am]

BILLING CODE 6712-01-M